DEPARTMENT OF COMMERCE

National Oceanic and Atmospheric Administration

50 CFR Part 660

[I.D.120806A]

RIN 0648-AV07

Fisheries off West Coast States and in the Western Pacific; Amendment 15 to Pacific Coast Salmon Fishery Management Plan

AGENCY: National Marine Fisheries Service (NMFS), National Oceanic and Atmospheric Administration (NOAA), Commerce.

ACTION: Notice of availability of FMP amendment; request for comments.

SUMMARY: The Secretary of Commerce (Secretary) requests public comments on Amendment 15 to the Pacific Coast Salmon Fisheries Management Plan (Plan) in accordance with the Magnuson-Stevens Fishery Conservation and Management Act (Magnuson-Stevens Act). This action is intended to provide management flexibility in times of low Klamath River fall-run Chinook (KRFC) abundance, while preserving the long-term productive capacity of the stock and thereby ensuring it continues to contribute meaningfully to ocean and river fisheries in the future.

The plan amendment would allow the Council to implement de minimis fisheries in years of low abundance, which: permit an ocean impact rate of no more than 10 percent on age-4 Klamath River fall Chinook, if the projected natural spawning escapement associated with a 10 percent age-4 ocean impact rate, including river recreational and tribal impacts, is between 22,000 and 35,000. If the projected natural escapement associated with a 10 percent age-4 ocean impact rate is less than 22,000, the Council would further reduce the allowable age-4 ocean impact rate to reflect the status of the stock.

DATES: Comments on Amendments 15 must be received on or before February 20, 2007.

ADDRESSES: You may submit comments, identified by I.D. 120806C by an of the following methods:

• E-mail: salmon2006amend15@noaa.gov

• Federal eRulemaking Portal: http://www.regulations.gov. Follow the instructions for submitting comments, and include I.D. 120806C in the subject line of the message.

• Mail: D. Robert Lohn, Administrator, Northwest Region, NMFS, Sand Point Way NE, BIN C15700, Seattle, WA 98115-0070; or to Rodney R. McInnis, Administrator, Southwest Region, NMFS, 501 West Ocean Boulevard, Suite 4200, Long Beach, CA 90802-4213.

• Fax: 206-526-6426

FOR FURTHER INFORMATION CONTACT: Sarah McAvinchey by phone at 206-526-4323, e-mail at sarah.mcavinchey@noaa.gov, or fax at 206-526-6736, Eric Chavez by phone at 508-980-4064, e-mail at eric.chavez@noaa.gov, or fax at 508-980-4047, or the Pacific Fishery Management Council at 503-326-6352.

SUPPLEMENTARY INFORMATION: The Magnuson-Stevens Act requires that each Regional Fishery Management Council submit any fishery management plan (FMP) or plan amendment it prepares to the Secretary for review and approval, disapproval, or partial approval. The Magnuson-Stevens Act also requires that the Secretary, upon receiving an FMP or amendment, immediately publish a notice that the FMP or amendment is available for public review and comment. The Secretary will consider the public comments received during the comment period in determining whether to approve the FMP or amendment.

Amendment 15 would allow the Council in the case of Klamath River fall Chinook, to implement de minimis fisheries, which would: permit an ocean impact rate of no more than 10 percent on age-4 Klamath River fall Chinook, if the projected natural spawning escapement associated with a 10 percent age-4 ocean impact rate, including river recreational and tribal impacts, is between 22,000 and 35,000. If the projected natural escapement associated with a 10 percent age-4 ocean impact rate is less than 22,000, the Council shall further reduce the allowable age-4 ocean impact rate to reflect the status of the stock. During the preseason planning process to set an allowable age-4 ocean impact rate the Council shall consider the following:

(a) Critically low natural spawner abundance, including the risk of Klamath Basin substocks dropping below crucial genetic thresholds;

(b) A series of low spawner abundance in recent years;

(c) The status of co-mingled stocks;

(d) El Nino or other adverse environmental conditions;

(e) Endangered Species Act considerations; and

(f) Other considerations as appropriate.

When considering these items, the Council shall determine that the final ocean impact rate will not jeopardize the capacity of the fishery to produce the maximum sustainable yield on a continuing basis. Implementation of de minimis fisheries will depend on year specific estimates of ocean abundance and age composition, which will be determined by the Salmon Technical Team (STT) prior to the March Council meeting. Ocean fishery impacts to the returning brood incurred during the previous fall/winter fisheries will be counted against the allowable age-4 ocean impact rate. Annual estimates of fishery catches, spawner escapements, spawner age composition and coded wire tag contributions are usually available by early to mid-January each year for use by the Salmon Technical Team STT and the Klamath River Technical Advisory Team in updating KRFC fishery resource estimates, models, and forecasts. Amendment 15 does not require that a de minimis fishery be implemented if the natural spawner floor is not met. The provisions of Amendment 15 allow the Council to consider implementing a de minimis fishery that would be limited to no more than 10 percent age-4 ocean impact rate based on the above described criteria.

NMFS welcomes comments on the proposed FMP amendment through the end of the comment period. NMFS will consider the public comments received during the comment period in determining whether to approve the proposed amendment. A proposed rule to implement Amendment 15 to the Salmon FMP has been submitted for Secretarial review and approval. NMFS expects to publish and request public review and comment on this rule in the near future. Public comments on the proposed rule must be received by the end of the comment period on the amendment to be considered in the approval/disapproval decision on the amendment. All comments received by the end of the comment period for the amendment, whether specifically directed to the amendment or the proposed rule, will be considered in the approval/disapproval decision on the amendment.

Authority: 16 U.S.C. 1801 et seq.

Dated: December 14, 2006.
Alan D. Risenhoover,
Director, Office of Sustainable Fisheries, National Marine Fisheries Service.

[FR Doc. E6-21742 Filed 12-19-06; 8:45 am]

BILLING CODE 3510-22-S